DEPARTMENT OF HOMELAND SECURITY

Federal Emergency Management Agency

44 CFR Part 64

[Docket ID FEMA-2011-0002; Internal Agency Docket No. FEMA-8207]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street SW., Washington, DC 20472, (202) 646-2953.

SUPPLEMENTARY INFORMATION: The NFIP enables property owners to purchase Federal flood insurance that is not otherwise generally available from private insurers. In return, communities agree to adopt and administer local floodplain management aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR part 59. Accordingly, the communities will be suspended on the effective date in the third column. As of that date, flood insurance will no longer be available in the community. We recognize that some of these communities may adopt and submit the required documentation of legally enforceable floodplain management measures after this rule is published but prior to the actual suspension date. These communities will not be suspended and will continue their eligibility for the sale of insurance. A notice withdrawing the suspension of the communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region III
Pennsylvania:
Ashland, Township of, Clarion County | 422361 | December 27, 1979, Emerg; January 17, 1985, Reg; December 2, 2011, Susp | Dec. 2, 2011 | Dec. 2, 2011.
Beaver, Township of, Clarion County | 422362 | October 26, 1979, Emerg; January 17, 1985, Reg; December 2, 2011, Susp | ......do | Do.
Clarion, Borough of, Clarion County | 421500 | October 3, 1975, Emerg; November 1, 1986, Reg; December 2, 2011, Susp | ......do | Do.
Clarion, Township of, Clarion County | 421507 | January 20, 1976, Emerg; November 1, 1986, Reg; December 2, 2011, Susp | ......do | Do.
East Brady, Borough of, Clarion County | 421501 | December 10, 1974, Emerg; June 30, 1976, Reg; December 2, 2011, Susp | ......do | Do.
Elk, Township of, Clarion County | 422365 | February 11, 1976, Emerg; July 3, 1985, Reg; December 2, 2011, Susp | ......do | Do.
Farmington, Township of, Clarion County | 422366 | August 21, 1975, Emerg; July 3, 1985, Reg; December 2, 2011, Susp | ......do | Do.
Foxburg, Borough of, Clarion County | 421502 | February 28, 1977, Emerg; September 30, 1987, Reg; December 2, 2011, Susp | ......do | Do.
Hawthorn, Borough of, Clarion County | 421503 | October 13, 1976, Emerg; May 1, 1986, Reg; December 2, 2011, Susp | ......do | Do.
Highland, Township of, Clarion County | 421508 | September 16, 1975, Emerg; May 1, 1986, Reg; December 2, 2011, Susp | ......do | Do.
Knox, Township of, Clarion County | 422367 | June 15, 1976, Emerg; January 3, 1985, Reg; December 2, 2011, Susp | ......do | Do.
Licking, Township of, Clarion County | 422368 | June 8, 1977, Emerg; January 3, 1985, Reg; December 2, 2011, Susp | ......do | Do.
Limestone, Township of, Clarion County | 422369 | October 31, 1975, Emerg; January 3, 1985, Reg; December 2, 2011, Susp | ......do | Do.
Madison, Township of, Clarion County | 422370 | January 16, 1976, Emerg; September 30, 1987, Reg; December 2, 2011, Susp | ......do | Do.
Millcreek, Township of, Clarion County | 422371 | May 19, 1978, Emerg; January 3, 1985, Reg; December 2, 2011, Susp | ......do | Do.
Monroe, Township of, Clarion County | 422372 | March 1, 1976, Emerg; May 1, 1986, Reg; December 2, 2011, Susp | ......do | Do.
New Bethlehem, Borough of, Clarion County | 420296 | December 26, 1974, Emerg; August 15, 1990, Reg; December 2, 2011, Susp | ......do | Do.
Paint, Township of, Clarion County | 422373 | March 26, 1976, Emerg; January 3, 1985, Reg; December 2, 2011, Susp | ......do | Do.
Perry, Township of, Clarion County | 421509 | March 12, 1976, Emerg; May 1, 1986, Reg; December 2, 2011, Susp | ......do | Do.
Piney, Township of, Clarion County | 422374 | February 18, 1976, Emerg; January 3, 1985, Reg; December 2, 2011, Susp | ......do | Do.
Porter, Township of, Clarion County | 421510 | January 21, 1976, Emerg; October 1, 1986, Reg; December 2, 2011, Susp | ......do | Do.
Redbank, Township of, Clarion County | 421511 | April 2, 1975, Emerg; May 1, 1986, Reg; December 2, 2011, Susp | ......do | Do.
Richland, Township of, Clarion County | 422375 | May 4, 1979, Emerg; October 1, 1986, Reg; December 2, 2011, Susp | ......do | Do.
Salem, Township of, Clarion County | 422376 | April 8, 1977, Emerg; January 3, 1985, Reg; December 2, 2011, Susp | ......do | Do.
Sligo, Borough of, Clarion County | 421506 | March 25, 1976, Emerg; August 15, 1990, Reg; December 2, 2011, Susp | ......do | Do.
Toby, Township of, Clarion County | 422377 | April 28, 1976, Emerg; January 3, 1985, Reg; December 2, 2011, Susp | ......do | Do.
Washington, Township of, Clarion County | 422378 | January 14, 1980, Emerg; February 1, 1985, Reg; December 2, 2011, Susp | ......do | Do.
Region IV
Alabama:
Brundidge, City of, Pike County | 010347 | April 13, 1990, Emerg; June 1, 1994, Reg; December 2, 2011, Susp | ......do | Do.
Goshen, Town of, Pike County | 010284 | October 8, 1976, Emerg; April 2, 1986, Reg; December 2, 2011, Susp | ......do | Do.
Pike County, Unincorporated Areas | 010286 | May 18, 1977, Emerg; August 1, 1987, Reg; December 2, 2011, Susp | ......do | Do.
Troy, City of, Pike County | 010285 | December 17, 1974, Emerg; September 18, 1985, Reg; December 2, 2011, Susp | ......do | Do.
Region V
Illinois:
Hardin County, Unincorporated Areas | 171002 | N/A, Emerg; N/A, Reg; November 2, 2011, Susp | Nov. 2, 2011 | Nov. 2, 2011.
Gallatin County, Unincorporated Areas | 170900 | July 29, 1975, Emerg; February 1, 1984, Reg; December 2, 2011, Susp | Dec. 2, 2011 | Dec. 2, 2011.
Junction, Village of, Gallatin County | 170245 | May 21, 1975, Emerg; January 5, 1984, Reg; December 2, 2011, Susp | ......do | Do.
New Haven, Village, Gallatin County | 170246 | October 1, 1975, Emerg; August 5, 1986, Reg; December 2, 2011, Susp | ......do | Do.
Omaha, Village of, Gallatin County | 170248 | August 1, 1975, Emerg; September 18, 1985, Reg; December 2, 2011, Susp | ......do | Do.
Ridgway, Village of, Gallatin County | 170249 | July 29, 1975, Emerg; July 18, 1985, Reg; December 2, 2011, Susp | ......do | Do.
Indiana:
Clinton County, Unincorporated Areas | 180029 | February 13, 1976, Emerg; September 1, 1988, Reg; December 2, 2011, Susp | ......do | Do.
Frankfort, City of, Clinton County | 180030 | June 18, 1975, Emerg; June 11, 1976, Reg; December 2, 2011, Susp | ......do | Do.
Minnesota:
Apple Valley, City of, Dakota County | 270050 | April 14, 2006, Emerg; May 1, 2008, Reg; December 2, 2011, Susp | ......do | Do.
Burnsville, City of, Dakota County | 270102 | February 9, 1973, Emerg; September 1, 1977, Reg; December 2, 2011, Susp | ......do | Do.
Dakota County, Unincorporated Areas | 270101 | March 4, 1974, Emerg; April 1, 1981, Reg; December 2, 2011, Susp | ......do | Do.
Eagan, City of, Dakota County | 270103 | July 1, 1975, Emerg; August 11, 1978, Reg; December 2, 2011, Susp | ......do | Do.
Farmington, City of, Dakota County | 270104 | July 22, 1975, Emerg; March 1, 1979, Reg; December 2, 2011, Susp | ......do | Do.
Hastings, City of, Dakota County | 270105 | March 9, 1973, Emerg; July 16, 1980, Reg; December 2, 2011, Susp | ......do | Do.
Inver Grove Heights, City of, Dakota County | 270106 | April 9, 1974, Emerg; August 1, 1980, Reg; December 2, 2011, Susp | ......do | Do.
Lakeville, City of, Dakota County | 270107 | February 12, 1974, Emerg; May 1, 1979, Reg; December 2, 2011, Susp | ......do | Do.
Lilydale, City of, Dakota County | 275241 | April 9, 1971, Emerg; February 9, 1973, Reg; December 2, 2011, Susp | ......do | Do.
Mendota, City of, Dakota County | 270109 | April 20, 1979, Emerg; April 15, 1985, Reg; December 2, 2011, Susp | ......do | Do.
Mendota Heights, City of, Dakota County | 270110 | July 14, 1978, Emerg; June 22, 1984, Reg; December 2, 2011, Susp | ......do | Do.
Miesville, City of, Dakota County | 270111 | December 21, 1978, Emerg; December 21, 1978, Reg; December 2, 2011, Susp | ......do | Do.
Northfield, City of, Dakota County | 270406 | April 10, 1974, Emerg; September 2, 1981, Reg; December 2, 2011, Susp | ......do | Do.
Randolph, City of, Dakota County | 270112 | June 5, 1975, Emerg; July 16, 1980, Reg; December 2, 2011, Susp | ......do | Do.
Rosemount, City of, Dakota County | 270113 | August 14, 1975, Emerg; July 16, 1980, Reg; December 2, 2011, Susp | ......do | Do.
South St. Paul, City of, Dakota County | 270114 | May 30, 1974, Emerg; June 18, 1980, Reg; December 2, 2011, Susp | ......do | Do.
Vermillion, City of, Dakota County | 270115 | October 6, 1975, Emerg; November 1, 1979, Reg; December 2, 2011, Susp | ......do | Do.
Medford, City of, Steele County | 270462 | August 15, 1975, Emerg; September 2, 1981, Reg; December 2, 2011, Susp | ......do | Do.
Owatonna, City of, Steele County | 270463 | May 16, 1974, Emerg; November 4, 1981, Reg; December 2, 2011, Susp | ......do | Do.
Steele County, Unincorporated Areas | 270635 | April 30, 1974, Emerg; November 4, 1981, Reg; December 2, 2011, Susp | ......do | Do.
Wisconsin:
Boyceville, Village of, Dunn County | 550119 | June 23, 1975, Emerg; November 19, 1986, Reg; December 2, 2011, Susp | ......do | Do.
Colfax, Village of, Dunn County | 550120 | July 21, 1975, Emerg; August 16, 1988, Reg; December 2, 2011, Susp | ......do | Do.
Downing, Village of, Dunn County | 550121 | April 6, 1976, Emerg; September 4, 1986, Reg; December 2, 2011, Susp | ......do | Do.
Dunn County, Unincorporated Areas | 550118 | March 26, 1971, Emerg; October 15, 1981, Reg; December 2, 2011, Susp | ......do | Do.
Menomonie, City of, Dunn County | 550123 | January 7, 1976, Emerg; January 3, 1990, Reg; December 2, 2011, Susp | ......do | Do.
Wheeler, Village of, Dunn County | 550124 | January 15, 1976, Emerg; March 15, 1984, Reg; December 2, 2011, Susp | ......do | Do.
Region VI
Louisiana:
Iberia Parish, Unincorporated Areas | 220078 | April 27, 1973, Emerg; July 3, 1978, Reg; December 2, 2011, Susp | ......do | Do.
Loreauville, Village of, Iberia Parish | 220081 | May 10, 1973, Emerg; May 25, 1978, Reg; December 2, 2011, Susp | ......do | Do.
New Iberia, City of, Iberia Parish | 220082 | April 27, 1973, Emerg; August 22, 1978, Reg; December 2, 2011, Susp | ......do | Do.
Region IX
Arizona:
Nogales, City of, Santa Cruz County | 040091 | April 14, 1975, Emerg; April 15, 1981, Reg; December 2, 2011, Susp | ......do | Do.
*......do = Ditto.
Code for reading third column: Emerg.—Emergency; Reg.—Regular; Susp.—Suspension.

David L. Miller,
Associate Administrator, Federal Insurance and Mitigation Administration, Department of Homeland Security, Federal Emergency Management Agency.

[FR Doc. 2011-30909 Filed 11-30-11; 8:45 am]

BILLING CODE 9111-12-P